DEPARTMENT OF TRANSPORTATION

Federal Aviation Administration

14 CFR Part 39

[Docket No. FAA-2014-0513; Directorate Identifier 2014-CE-020-AD; Amendment 39-17920; AD 2014-15-18]

RIN 2120-AA64

Airworthiness Directives; Mooney International Corporation Airplanes

AGENCY: Federal Aviation Administration (FAA), DOT.

ACTION: Final rule; request for comments.

SUMMARY: We are adopting a new airworthiness directive (AD) for certain Mooney International Corporation Models M20C, M20E, M20M, M20R, and M20TN airplanes. This AD requires inspection of the outer empennage attach fittings for correct thickness with replacement as necessary. This AD was prompted by discovery of empennage attach fittings (Lugs) that do not meet the approved design dimensional requirements, which could result in possible reduction in fatigue or static strength and/or corrosion. We are issuing this AD to correct the unsafe condition on these products.

DATES: This AD is effective August 20, 2014.

The Director of the Federal Register approved the incorporation by reference of a certain publication listed in this AD as of August 20, 2014.

We must receive comments on this AD by September 19, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Mooney International Corporation, 165 Al Mooney Road North, Kerrville, Texas 78028; telephone: (830) 896-6000; email: technicalsupport@mooney.com; Internet: www.mooney.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0513; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Andrew McAnaul, Aerospace Engineer, ASW-150 (c/o San Antonio MIDO), 10100 Reunion Place, Suite 650, San Antonio, Texas 78216; telephone: (210) 308-3365; facsimile: (210) 308-3370; email: andrew.mcanaul@faa.gov.

SUPPLEMENTARY INFORMATION:

Discussion

We received reports of outboard empennage attach fittings that can be found on certain Mooney International Corporation Models M20C, M20E, M20M, M20R and M20TN airplanes that do not meet the approved type design dimensional requirements. This condition, if not corrected, could result in reduction of fatigue or static strength, and/or corrosion, which could lead to possible structural failure of the attachment of the empennage to the fuselage causing loss of control. We are issuing this AD to correct the unsafe condition on these products.

Relevant Service Information

We reviewed Mooney International Corporation Service Bulletin M20-318, dated June 2, 2014. The service information describes procedures for inspection of the outboard empennage attach fittings and instructions for replacement if necessary.

FAA's Determination

We are issuing this AD because we evaluated all the relevant information and determined the unsafe condition described previously is likely to exist or develop in other products of the same type design.

AD Requirements

This AD requires removal of the empennage assembly for inspection of the outboard empennage attach fittings. If the fittings are found not to meet dimensional requirements, replacement of the affected empennage attach fittings is required. This AD also requires sending the inspection results to Mooney International Corporation.

FAA's Justification and Determination of the Effective Date

An unsafe condition exists that requires the immediate adoption of this AD. The FAA has found that the risk to the flying public justifies waiving notice and comment prior to adoption of this rule because failure of the attach fittings could result in separation of the empennage and loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2014-0513 and Directorate Identifier 2014-CE-020-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 38 airplanes of U.S. registry.

We estimate the following costs to comply with this AD:

Estimated Costs
Action | Labor cost | Parts cost | Cost per product | Cost on U.S. operators
Inspection of empennage attach fittings | 6 work-hours × $85 per hour = $510 | $79 | $589 | $22,382

We estimate the following costs to do any necessary replacements that would be required based on the results of the inspection. We have no way of determining the number of aircraft that might need these replacements:

On-Condition Costs
Action | Labor cost | Parts cost | Cost per product
Replacement of one empennage attach fitting when only one is found to be out of tolerance | 12 work-hours × $85 per hour = $1,020 | $95 | $1,115
Replacement of both empennage attach fittings | 24 work-hours × $85 per hour = $2,040 | 190 | 2,230

According to the manufacturer, all of the costs of this AD may be covered under warranty, thereby reducing the cost impact on affected individuals. We do not control warranty coverage for affected individuals. As a result, we have included all costs in our cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-15-18 Mooney International Corporation: Amendment 39-17920; Docket No. FAA-2014-0513; Directorate Identifier 2014-CE-020-AD.

(a) Effective Date

This AD is effective August 20, 2014.

(b) Affected ADs

None.

(c) Applicability

This AD applies to the following Mooney International Corporation airplanes, certificated in any category:

| Models | Serial Nos.
(1) | M20C | 2313.
(2) | M20E | 761.
(3) | M20M | 27-0057.
(4) | M20R | 29-0141 and 29-0513 through 29-0519.
(5) | M20TN | 31-0101 through 31-0127.

(d) Subject

Joint Aircraft System Component (JASC)/Air Transport Association (ATA) of America Code 5342, Fuselage, Stabilizer Attach Fittings.

(e) Unsafe Condition

This AD was prompted by discovery of empennage attach fittings (Lugs) that do not meet the approved design dimensional requirements, which could result in possible reduction in fatigue or static strength, and/or corrosion. This unsafe condition could lead to possible structural failure of the attachment of the empennage to the fuselage causing loss of control. We are issuing this AD to correct the unsafe condition on these products.

(f) Compliance

Comply with this AD within the compliance times specified in paragraphs (g) through (i) of this AD, unless already done.

(g) Inspection

(1) Within the next 10 hours time-in-service after the effective date of this AD, inspect the part number (P/N) 350061-007 left hand (LH) and 350061-008 right hand (RH) outer empennage attach fittings for correct thickness following Step 1 of Mooney International Corporation Service Bulletin No. M20-318, dated June 2, 2014.

(2) If the empennage attach fittings meet the dimensional requirements specified in Step 1 of Mooney International Corporation Service Bulletin No. M20-318, dated June 2, 2014, no further action is required except for the reporting requirement in paragraph (h) of this AD.

(3) If any of the RH or LH empennage attach fittings do not meet the dimensional requirements specified in Step 1 of Mooney International Corporation Service Bulletin No. M20-318, dated June 2, 2014, before further flight, replace the empennage attach fittings having the incorrect thickness with new airworthy empennage attach fittings following Step 2 of Mooney International Corporation Service Bulletin No. M20-318, dated June 2, 2014.

(h) Reporting Requirement

Within 10 days after the inspection required in paragraph (g)(1) or the action required in paragraph (g)(3) of this AD if replacing an empennage attach fitting is required, whichever is applicable, or within 10 days after the effective date of this AD, whichever occurs later; send the inspection results to: Mooney International Corporation, Attn: Technical Support, 165 Al Mooney Road North, Kerrville, Texas 78028; fax: (830) 257-4635; telephone: (830) 896-6000; email: technicalsupport@mooney.com; Internet: www.mooney.com. Use the form on page 7 of Mooney International Corporation Service Bulletin No. M20-318, dated June 2, 2014, to comply with this AD action.

(i) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(j) Alternative Methods of Compliance (AMOCs)

(1) The Manager, Fort Worth ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

Andrew McAnaul, Aerospace Engineer, ASW-150 (c/o San Antonio MIDO), 10100 Reunion Place, Suite 650, San Antonio, Texas 78216; telephone: (210) 308-3365; facsimile: (210) 308-3370; email: andrew.mcanaul@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Mooney International Corporation Service Bulletin No. M20-318, dated June 2, 2014.

(ii) Reserved.

(3) For Mooney International Corporation service information identified in this AD, contact Mooney International Corporation, 165 Al Mooney Road North, Kerrville, Texas 78028; telephone: (830) 896-6000; email: technicalsupport@mooney.com; Internet: www.mooney.com.

(4) You may view this service information at FAA, Small Airplane Directorate, 901 Locust, Kansas City, Missouri 64016. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on July 25, 2014.
Earl Lawrence,
Manager, Small Airplane Directorate, Aircraft Certification Service.

[FR Doc. 2014-18016 Filed 8-4-14; 8:45 am]

BILLING CODE 4910-13-P